DEPARTMENT OF ENERGY

Federal Energy Regulatory Commission

[Project Nos. 1984-223; 11162-131]

Wisconsin River Power Company; Wisconsin Power & Light Company; Notice of Applications Accepted for Filing, Soliciting Comments, Protests and Motions To Intervene

Take notice that the following hydroelectric applications have been filed with the Commission and are available for public inspection:

a. Type of Proceeding: Extension of License Terms (Southern Basin).

b. Project Nos.: P-1984-223 and P-11162-131.

c. Date Filed: March 1, 2019.

d. Licensees: Wisconsin River Power Company and Wisconsin Power and Light Company.

e. Names and Locations of the Projects: Petenwell and Castle Rock (P-1984-223) and Prairie du Sac (P-11162-131) hydroelectric projects, located on the Wisconsin River, in Adams, Columbia, Juneau, Sauk, and Wood counties, Wisconsin.

f. Filed Pursuant to: Federal Power Act, 16 U.S.C. 791a-825r.

g. Licensees Contact Information: (P-1984-223) Mr. Jamie Nuthals, Principal Environmental Consultant, WEC Business Services LLC, 700 North Adams Street, Green Bay, WI 54301, (920) 433-1460, james.nuthals@wecenergygroup.com; (P-11162-131) Mr. Brad Kulka, Director of Operations, Central Region, Wisconsin Power and Light Company, 4902 North Biltmore Lane, Madison, WI 53718, (608) 458-3849, BradKulka@alliantenergy.com.

h. FERC Contact: Mr. Ashish Desai, (202) 502-8370, Ashish.Desai@ferc.gov.

i. Deadline for filing comments, motions to intervene and protests is 30 days from the issuance date of this notice by the Commission. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number, for example, “P-1984-223”.

Note that you can file comments, motions to intervene, and protects in response to both of the projects identified in the notice together (i.e., one response for both projects) or you can respond to each project individually.

j. Description of Proceeding: On March 1, 2019, the Wisconsin River Power Company, licensee for the Petenwell and Castle Rock Project No. 1984, and the Wisconsin Power & Light Company, licensee for the Prairie du Sac Project No. 11162, filed requests to extend the license terms for their respective projects located in the southern sub-basin of the Wisconsin River.

Currently, the 30-year license for the Petenwell and Castle Rock Project expires on November 30, 2031 and the 30-year license for the Prairie du Sac Project expires on May 31, 2032. The licensees seek Commission approval to extend the license terms for the two projects so they expire on June 30, 2041. The licensees say the extensions would assist with the comprehensive study and analysis of the projects' cumulative environmental impact and would reduce stakeholder burden by integrating the relicensing consultation process. Additionally, the licensees say that aligning the license expiration dates would eliminate redundancies during relicensing for all involved parties as both projects in the southern sub-basin have similar vegetation, land cover, hydrology, and resource management concerns.

The licensees' requests are part of a broader proposal to align the license expiration dates for 20 projects on the Wisconsin River into three groupings based on each project's location to facilitate comprehensive study and analysis and coordinate relicensing as discussed above. This public notice covers the two projects in the southern sub-basin of the Wisconsin River. The Commission is issuing two other public notices—one for eight projects in the northern sub-basin of the Wisconsin River that would align these expiration dates so they expire on June 30, 2035 and another public notice for 10 projects in the central sub-basin of the Wisconsin River that would align the license expiration dates to expire on June 30, 2038.

k. This notice is available for review and reproduction at the Commission in the Public Reference Room, Room 2A, 888 First Street NE, Washington, DC 20426. The filing may also be viewed on the Commission's website at http://www.ferc.gov/docs-filing/elibrary.asp. Enter the Docket number (for example, P-1984-223) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

l. Individuals desiring to be included on the Commission's mailing list should so indicate by writing to the Secretary of the Commission.

m. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

n. Filing and Service of Responsive Documents: Any filing must (1) bear in all capital letters the title COMMENTS, PROTEST, or MOTION TO INTERVENE as applicable; (2) set forth in the heading the name of the applicant(s) and the project number(s) of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the requests to extend the license terms. Agencies may obtain copies of the applications directly from the applicants. A copy of any protest or motion to intervene must be served upon each representative of the applicant specified in the particular application. If an intervener files comments or documents with the Commission relating to the merits of an issue that may affect the responsibilities of a particular resource agency, they must also serve a copy of the document on that resource agency. A copy of all other filings in reference to these applications must be accompanied by proof of service on all persons listed in the service list prepared by the Commission in this proceeding, in accordance with 18 CFR 4.34(b) and 385.2010.

Dated: March 28, 2019.
Nathaniel J. Davis, Sr.,
Deputy Secretary.

[FR Doc. 2019-06463 Filed 4-2-19; 8:45 am]

BILLING CODE 6717-01-P